DEPARTMENT OF DEFENSE

Office of the Secretary

[Docket ID DOD-2009-OS-0143]

Privacy Act of 1974; System of Records

AGENCY: Office of the Secretary, DoD.

ACTION: Notice to alter a system of records.

SUMMARY: The Secretary of Defense proposes to alter DWHS E03, a system of records to its inventory of record systems subject to the Privacy Act of 1974 (5 U.S.C. 552a), as amended.

DATES: This proposed action would be effective without further notice on November 6, 2009 unless comments are received which result in a contrary determination.

ADDRESSES: Send comments to Chief, OSD/JS Privacy Office, Freedom of Information Directorate, Washington Headquarters Services, 1155 Defense Pentagon, Washington, DC 20301-1155.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from ADDRESSES above.

The proposed system report, as required by 5 U.S.C. 552a(r) of the Privacy Act of 1974, as amended, was submitted on September 25, 2009, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 25, 2009.
Patricia L. Toppings,
OSD Federal Register Liaison Officer, Department of Defense.

DWHS E03

System name:

Security Review Index File (March 28, 2007, 72 FR 14531).

Changes:

* * * * *

System location:

Delete entry and replace with “Office of Security Review, Executive Services Directorate, Washington Headquarters Services, 1155 Defense Pentagon, Washington, DC 20301-1155.”

Categories of individuals covered by the system:

Delete entry and replace with “Current active duty and Department of Defense (DoD) civilian employees including Foreign Nationals, retired personnel, former DoD employees, and non-active duty members of the Reserve Components that use the review process to ensure that information they submit for public release does not compromise national security.”

Categories of records in the system:

Delete entry and replace with “Name, personal phone numbers (home/cell), personal/home e-mail address, home mailing address of individuals submitting material for security review, and title/subject of submitted document.”

Authority for maintenance of the system:

Delete entry and replace with “DoD Directive 5230.9, Clearance of DoD Information for Public Release; DoD Instruction 5230.29, Security and Policy Review of DoD Information for Public Release; 5 U.S.C. 301, Departmental Regulations.”

* * * * *

Storage:

Delete entry and replace with “Paper records and electronic storage media.”

Retrieveability:

Delete entry and replace with “By name and title/subject of submitted document.”

Safeguards:

Delete entry and replace with “Paper records are accessed only by officials with need to know and appropriate security clearance in accordance with assigned duties. Electronic records require Common Access Card to access and are further password protected with access limited to those individuals who have a need-to-know.”

Retention and disposal:

Delete entry and replace with “Records are destroyed 2 years after clearance without amendment; destroyed 6 years after record was cleared with amendment, or denied clearance. Security review appeal files which are cleared are destroyed 2 years after clearance; and destroyed 6 years after record was cleared with amendment or denied. Records are destroyed by burn bag.”

System manager(s) and address:

Delete entry and replace with “Chief, Office of Security Review, Executive Services Directorate, Washington Headquarters Services, 1155 Defense Pentagon, Washington, DC 20301-1155.”

Notification procedure:

Delete entry and replace with “Individuals seeking to determine whether information about themselves is contained in this system of records should address written inquiries to Office of Security Review, Executive Services Directorate, Washington Headquarters Services, 1155 Defense Pentagon, Washington, DC 20301-1155.

Written requests should include the individual's name and title/subject of submitted document.”

Record access procedures:

Delete entry and replace with “Individuals seeking access to information about themselves contained in this system of records should address written inquiries to Office of the Secretary of Defense/Joint Staff, Freedom of Information Requester Service Center, Office of Freedom of Information, Executive Services Directorate, Washington Headquarters Service, 1155 Defense Pentagon, Washington, DC 20301-1155.

Written requests should include the name and number of this system of records notice, the individual's name, title/subject of the submitted document, and be signed.”

* * * * *

Record source categories:

Delete entry and replace with “From the individual.”

* * * * *

DWHS E03

System name:

Security Review Index File.

System location:

Office of Security Review, Executive Services Directorate, Washington Headquarters Services, 1155 Defense Pentagon, Washington, DC 20301-1155.

Categories of individuals covered by the system:

Current active duty and Department of Defense (DoD) civilian employees including Foreign Nationals, retired personnel, former DoD employees, and non-active duty members of the Reserve Components that use the review process to ensure that information they submit for public release does not compromise national security.

Categories of records in the system:

Name, personal phone numbers (home/cell), personal/home email address, home mailing address of individuals submitting material for security review, and title/subject of submitted document.

Authority for maintenance of the system:

DoD Directive 5230.9, Clearance of DoD Information for Public Release; DoD Instruction 5230.29, Security and Policy Review of DoD Information for Public Release; 5 U.S.C. 301, Departmental Regulations.

Purpose(s):

To manage the security review process for documents or materials before they are released outside of the DoD. The documents and materials of completed security reviews are maintained for historical reference to ensure subsequent reviews, which may be similar in content, are handled consistently.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD ‘Blanket Routine Uses' set forth at the beginning of OSD's compilation of systems of records notices apply to this system.

Policies and practices for storing, retrieving, accessing, retaining, and disposing of records in the system:

Storage:

Paper records and electronic storage media.

Retrieveability:

By name and title/subject of submitted document.

Safeguards:

Paper records are accessed only by officials with need to know and appropriate security clearance in accordance with assigned duties. Electronic records require Common Access Card to access and are further password protected with access limited to those individuals who have a need-to-know.

Retention and disposal:

Records are destroyed 2 years after clearance without amendment; destroyed 6 years after record was cleared with amendment, or denied clearance. Security review appeal files which are cleared are destroyed 2 years after clearance; and destroyed 6 years after record was cleared with amendment or denied. Records are destroyed by burn bag.

System manager(s) and address:

Chief, Office of Security Review, Executive Services Directorate, Washington Headquarters Services, 1155 Defense Pentagon, Washington, DC 20301-1155.

Notification procedure:

Individuals seeking to determine whether information about themselves is contained in this system of records should address written inquiries to Office of Security Review, Executive Services Directorate, Washington Headquarters Services, 1155 Defense Pentagon, Washington, DC 20301-1155.

Written requests should include the individual's name and title/subject of document submitted.

Record access procedures:

Individuals seeking access to information about themselves contained in this system of records should address written inquiries to Office of the Secretary of Defense/Joint Staff, Freedom of Information Requester Service Center, Office of Freedom of Information, Executive Services Directorate, Washington Headquarters Service, 1155 Defense Pentagon, Washington, DC 20301-1155.

Written requests should include the name and number of this system of records notice, the individual's name, title/subject of submitted document, and be signed.

Contesting record procedures:

The OSD rules for accessing records, for contesting contents and appealing initial agency determinations are published in OSD Administrative Instruction 81; 32 CFR part 311; or may be obtained from the system manager.

Record source categories:

From the individual.

Exemptions claimed for the system:

None.

[FR Doc. E9-24129 Filed 10-6-09; 8:45 am]

BILLING CODE 5001-06-P